DEPARTMENT OF COMMERCE

National Oceanic and Atmospheric Administration

[I.D. 051104A]

Magnuson-Stevens Act Provisions; General Provisions for Domestic Fisheries; Application for Exempted Fishing Permits (EFPs)

AGENCY: National Marine Fisheries Service (NMFS), National Oceanic and Atmospheric Administration (NOAA), Commerce.

ACTION: Notification of a proposal for an EFP to conduct experimental fishing; request for comments.

SUMMARY: The Administrator, Northeast Region, NMFS (Regional Administrator) has made a preliminary determination that the subject EFP application contains all the required information and warrants further consideration. The Regional Administrator has also made a preliminary determination that the activities authorized under the EFP would be consistent with the goals and objectives of the Northeast (NE) Multispecies Fishery Management Plan (FMP). However, further review and consultation may be necessary before a final determination is made to issue the EFP. Therefore, NMFS announces that the Regional Administrator proposes to issue an EFP that would allow three vessels to conduct fishing operations that are otherwise restricted by the regulations governing the fisheries of the Northeastern United States. The EFP would allow for exemptions from the NE multispecies mesh requirements specified at 50 CFR 648.80(a)(3)(i), the multispecies rolling closure areas restrictions specified at 648.81(f), and the multispecies Days-At-Sea (DAS) requirements specified at 648.82(a). The experiment proposes to conduct a study of an experimental bycatch reduction device in order to develop otter trawl gear for the NE multispecies fishery that would result in reduced catch of Atlantic cod. The EFP would allow these exemptions for three commercial vessels for not more than 12 total days of sea trials. All experimental work would be monitored by Manomet Center for Conservation Sciences personnel.

Regulations under the Magnuson-Stevens Fishery Conservation and Management Act require publication of this notification to provide interested parties the opportunity to comment on applications for proposed EFPs.

DATES: Comments on this document must be received on or before June 1, 2004.

ADDRESSES: Comments on this notice may be submitted by e-mail. The mailbox address for providing e-mail comments is DA499@noaa.gov. Include in the subject line of the e-mail comment the following document identifier: “Comments on Manomet EFP Proposal for Inclined Separation Panel Study.” Written comments should be sent to Patricia A. Kurkul, Regional Administrator, NMFS, Northeast Regional Office, 1 Blackburn Drive, Gloucester, MA 01930. Mark the outside of the envelope “Comments on Manomet EFP Proposal for Inclined Separation Panel Study.” Comments may also be sent via facsimile (fax) to (978) 281-9135.

FOR FURTHER INFORMATION CONTACT: Jason Blackburn, Fishery Management Specialist, phone: 978-281-9326, fax: 978-281-9135.

SUPPLEMENTARY INFORMATION: An application for an EFP was submitted by Manomet Center for Conservation Sciences on April 2, 2004. The EFP would exempt three federally permitted commercial fishing vessels from the following requirements in the NE Multispecies FMP: The requirement to use a minimum mesh size of 6.0-inch (15.2-cm) diamond mesh or 6.5-inch (16.5-cm) square mesh in the body and extension of a trawl net while fishing in the GOM Regulated Mesh Area; the requirement to not fish in rolling closure areas; and the requirement to use a day-at-sea (DAS) while targeting groundfish for no more than 12 DAS.

The goal of this study is to assess the selectivity of a bycatch reduction device in the GOM groundfish fishery. The specific trawl design to be tested is referred to as an inclined separation panel. The separation panel consists of 4-inch (10.2-cm) diamond mesh sewn in the extension and codend of a conventional trawl net (6.5-inch (16.5-cm) diamond mesh codend). The vessel will target mixed groundfish (yellowtail flounder, winter flounder, American plaice, Atlantic cod, and summer flounder). The incidental catch is expected to be comprised of skates, dogfish, crab, lobster, and sculpin. According to the applicant, a trawl net of similar design has been proven successful at separating cod and other roundfish from flatfish in the Irish Sea fisheries.

The study will occur between June 1 and December 31, 2004. During the study, the number of tows will be limited to four valid tows per day. Tow duration will be approximately 1 hour per tow, and the total number of valid tows will not exceed 40 for the entire study. One vessel would fish in the 30-minute squares 123 and 124, inside the area defined as follows: The Maine shoreline at 69°30′ W long., south to 69°30' W long. at 43°10′ N lat. (avoiding the GOM year round closures), and west to the Maine shoreline at 43°10′ N lat. Two vessels would fish in a second area, occupying 30-minute squares 138, 139, 140, 146, and 147, inside the area defined as follows: The Massachusetts shoreline at 70°10′ W long., north to 70°10′ W long. at 42°15′ N lat., east to 42°15′ lat. at 69°50′ W long., south to 69°50' W long. at 42° N lat., and west along the 42° N lat. line to the Massachusetts shoreline. At no time will fishing operations be conducted inside permanent closures. All fish retained by the upper and lower codends would be counted, weighed, and measured. All legal catch would be sold, consistent with the current landing limits. Undersized fish would be returned to the sea as quickly as possible after measurement. The participating vessels would be required to report all landings in their Vessel Trip Reports.

Authority: 16 U.S.C. 1801 et seq.

Dated: May 12, 2004.
Alan D. Risenhoover,
Acting Director, Office of Sustainable Fisheries, National Marine Fisheries Service.

[FR Doc. E4-1161 Filed 5-14-03; 8:45 am]

BILLING CODE 3510-22-S